DEPARTMENT OF ENERGY

Federal Energy Regulatory Commission

Notice of Request To Use Alternative Procedures in Preparing a License Application

December 1, 2000.

Take notice that the following request to use alternative procedures to prepare a license application has been filed with the Commission.

a. Type of Application: Request to use alternative procedures to prepare a new license application.

b. Project No.: 2100.

c. Date filed: November 22, 2000.

d. Applicant: California Department of Water Resources (DWR).

e. Name of Project: Oroville Project (Feather River Project).

f. Location: On the Feather River, in Butte County, California. The project occupies federal lands within the Plumas and Lassen National Forests.

g. Filed Pursuant to: Federal Power Act, 16 U.S.C. 791(a)-825(r).

h. Applicant Contact: Viju Patel, Executive Manager, Power Systems at (916) 653-5913 or Rick Ramirez, State Water Project Analysis Office at (916) 653-1095.

i. FERC Contact: James Fargo at (202) 219-2848; e-mail james.fargo@ferc.fed.us

j. Deadline for Comments: January 8, 2001.

All documents (original and eight copies) should be filed with: David P. Boergers, Secretary, Federal Energy Regulatory Commission, 888 First Street, NE., Washington, DC 20426. Comments and protests may be filed electronically via the internet in lieu of paper. See, 18 CFR 385.2001(a)(1)(iii) and the instructions on the Commission's web site at http://www.ferc.fed.us/efi/doorbell.htm.

k. The Oroville facilities consist of the existing Oroville Dam and Reservoir, the Edward Hyatt Powerplant, Thermalito Powerplant, Thermalito Diversion Dam Powerplant, Thermalito Forebay and Afterbay, and associated recreational and fish and wildlife facilities. The project has a total installed capacity of 762,000 kilowatts.

l. DWR has shown that it has made an effort to contact most federal and state resources agencies, non-governmental organizations (NGO), and others affected by the project. DWR has also shown that a consensus exists that the use of alternative procedures is appropriate in this case. DWR has submitted a proposed communications protocol that is supported by many of the stakeholders.

The purpose of this notice is to invite any additional comments on DWR's request to use the alternative procedures, pursuant to Section 4.34(i) of the Commission's regulations. Additional notices seeking comments on the specific project proposal, interventions and protests, and recommended terms and conditions will be issued at a later date. DWR will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review process into a single process, to facilitate greater participation, and to improve communication and cooperation among the participants.

DWR has met with federal and state resources agencies, NGOs, elected officials flood control and downstream interests, environmental groups, business and economic development organizations, the boating industry, and members of the public regarding the Oroville Project. DWR intends to file 6-month progress reports during the alternative procedures process that leads to the filing of a license application by January 31, 2005.

David P. Boergers,
Secretary.

[FR Doc. 00-31129 Filed 12-6-00; 8:45 am]

BILLING CODE 6717-01-M